DEPARTMENT OF THE INTERIOR

Bureau of Land Management

[CO-921-06-1320-EL; COC 70164]

Notice of Invitation for Coal Exploration License Application, Colorado

AGENCY: Bureau of Land Management, Interior.

ACTION: Notice of Invitation for Coal Exploration License Application, Ark Land Company, COC 70164, Colorado.

SUMMARY: Pursuant to section 2(b) the Mineral Leasing Act of February 25, 1920, as amended by Section 4 of the Federal Coal Leasing Amendments Act of 1976, 90 Stat. 1083, 30 U.S.C. 201(b), and to Title 43, Code of Federal Regulations, (CFR), Subpart 3410, all interested qualified parties, as provided in 43 CFR 3472.1 are hereby invited to participate with Ark Land Company on a pro rata cost sharing basis in a program for the exploration of coal deposits owned by the United States of America in the following described lands in Garfield County, Colorado.

T. 7 S., R. 101 W., 6th P.M.

Sec. 20, S½, and NE¼;

Sec. 21, lot 2, SW¼NW¼, and W½SW¼;

Sec. 28, W½W½;

Sec. 29, all;

Sec. 30, Tr. 44, lots 5 through 10, inclusive, and E½NE¼;

Sec. 31, lots 5 through 8, inclusive;

Sec. 32, lots 1 through 4, inclusive, NE¼, and N½NW¼.

T. 7 S., 102 W., 6th P.M.

Sec. 23, lot 1, 4, E½ NW¼ and E½SW¼;

Sec. 24, lots 1 through 4, inclusive, W½, and W½E½;

Sec. 25, lots 1 through 4, inclusive, W½, and W½E½;

Sec. 26, all;

Sec. 35, all;

Sec. 36, lots 1 through 4, inclusive, W½, and W½E½.

T. 8 S., R. 101 W., 6th P.M.

Sec. 3, lots 5 through 16, inclusive, and S½;

Sec. 4, lots 5 through 16, inclusive, and S½;

Sec. 5, lots 5 through 20, inclusive, and S½;

Sec. 6, lots 8 through 27, inclusive, and SE¼;

Sec. 7, lots 5 through 8, inclusive, E½, and E½W½;

Sec. 8, all;

Sec. 9, all;

Sec. 10, all;

Sec. 15, N½N½;

Sec. 16, N½N½;

Sec. 17, N½N½;

Sec. 18, lot 5, N½NE¼, and NE¼NW1/4.

T. 8 S., R. 102 W., 6th P.M.

Sec. 1, lots 5 through 20, inclusive, and N½S½.

The area described contains 13,178.47 acres.

DATES: Written Notice of Intent to Participate in Exploration License COC 70164 should be addressed to the attention of both parties whose addresses are provided in the ADDRESSES section below and must be received by them within 30 days after publication of this Notice of Invitation in the Federal Register.

ADDRESSES: Karen Zurek, CO-921, Solid Minerals Staff, Division of Energy, Lands and Minerals, Colorado State Office, Bureau of Land Management, 2850 Youngfield Street, Lakewood, Colorado 80215; and Michael Lincoln, P.O. Box 460, Hanna, Wyoming 82327.

FOR FURTHER INFORMATION, CONTACT: Karen Zurek at (303) 239-3795.

SUPPLEMENTARY INFORMATION: The application for coal exploration license is available for public inspection during normal business hours under serial number COC 70164 at the Bureau of Land Management, Colorado State Office, 2850 Youngfield Street, Lakewood, Colorado 80215, and at the Grand Junction Field Office, 2815 H Road, Grand Junction, Colorado 81506. The proposed exploration program is fully described and will be conducted pursuant to an exploration plan to be approved by the Bureau of Land Management. The authority for this notice is 43 CFR 3410.2-1(c)(1).

Dated: July 19, 2006.
Karen Zurek,
Solid Minerals Staff, Division of Energy, Lands and Minerals.

[FR Doc. E6-13928 Filed 8-22-06; 8:45 am]

BILLING CODE 4310-JB-P